DEPARTMENT OF VETERANS AFFAIRS

Advisory Committee on Women Veterans; Notice of Meeting

The Department of Veterans Affairs (VA) gives notice under Public Law 92-463 (Federal Advisory Committee Act) that the Advisory Committee on Women Veterans will meet October 29-31, 2007 in Room 230, VA Central Office, 810 Vermont Avenue, NW., Washington, DC, from 8:30 a.m. to 4:30 p.m. each day. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On October 29, the agenda will include overviews of the Veterans Health Administration, the Veterans Benefits Administration, the National Cemetery Administration, updates on activities of the Center for Women Veterans, the 2006 Advisory Committee on Women Veterans' report, an overview of the Women Veterans Health Strategic Healthcare Group, a briefing on women's mental health and military sexual trauma, an annual ethics briefing, and presentation of Certificates of Appointment to new Committee members. On October 30, the Committee will receive briefings from the Center for Veterans Enterprise, VA Homeless Program, the Office of Congressional & Legislative Affairs, and VHA Research. On October 31, the Committee will receive briefings and updates on genomic medicine, the Defense Advisory Committee on Women in the Service (DACOWITS), and the Veterans Disability Benefits Commission's final report. The agenda will also include any new issues that the Committee members may introduce, as well as planning for the 2008 Report.

Any member of the public wishing to attend should contact Ms. Desiree Long, at the Department of Veterans Affairs, Center for Women Veterans (00W), 810 Vermont Avenue, NW., Washington, DC 20420. Ms. Long may be contacted either by phone at (202) 461-6193, fax at (202) 273-7092, or e-mail at 00W@mail.va.gov. Interested persons may attend, appear before, or file statements with the Committee. Written statements must be filed before the meeting, or within 10 days after the meeting.

Dated: October 1, 2007.
By Direction of the Secretary.
E. Philip Riggin,
Committee Management Officer,

[FR Doc. 07-4944 Filed 10-4-07; 8:45 am]

BILLING CODE 8320-01-M